DEPARTMENT OF ENERGY

Federal Energy Regulatory Commission

Combined Notice of Filings #1

July 31, 2009.

Take notice that the Commission received the following electric corporate filings:

Docket Numbers: EC09-98-000.

Applicants: Barton Windpower LLC, Barton Windpower II LLC.

Description: Application for Authorization of Transaction Under Section 203 of the Federal Power Act.

Filed Date: 07/31/2009.

Accession Number: 20090731-5032.

Comment Date: 5 p.m. Eastern Time on Friday, August 21, 2009.

Docket Numbers: EC09-99-000.

Applicants: MidAmerican Energy Company.

Description: Application of MidAmerican Energy Company for approval of acquisition of additional interest in transmission line pursuant to Section 203 of the Federal Power Act.

Filed Date: 07/30/2009.

Accession Number: 20090730-5122.

Comment Date: 5 p.m. Eastern Time on Thursday, August 20, 2009.

Take notice that the Commission received the following electric rate filings:

Docket Numbers: ER98-4109-004; ER01-1178-005; ER03-175-008; ER03-394-006; ER03-427-006; ER07-265-010; ER08-100-009; ER99-3426-010.

Applicants: El Dorado Energy, LLC; Sempra Generation; Termoelectrica U.S., LLC; Elk Hills Power, LLC; Mesquite Power LLC; Sempra Energy Solutions LLC; Sempra Energy Trading LLC; San Diego Gas & Electric Company.

Description: Notice of Non-Material Change in Status—Sites for New Generation Capacity Development.

Filed Date: 07/31/2009.

Accession Number: 20090731-5051.

Comment Date: 5 p.m. Eastern Time on Friday, August 21, 2009.

Docket Numbers: ER99-1435-019.

Applicants: Avista Corporation.

Description: Notification of Change in Status pursuant to Section 35.42(d).

Filed Date: 07/31/2009.

Accession Number: 20090731-5020.

Comment Date: 5 p.m. Eastern Time on Friday, August 21, 2009.

Docket Numbers: ER00-1115-009; ER00-3562-010; ER00-38-009; ER01-2688-011; ER01-2887-008; ER01-480-008; ER02-1319-008; ER02-1367-006; ER02-1633-006; ER02-1959-007; ER02-2227-008; ER02-2229-007; ER02-600-009; ER03-838-007; ER04-1081-005; ER04-1099-006; ER04-1100-006; ER04-1221-005; ER04-831-007; ER03-1288-005; ER03-209-007; ER03-24-007; ER03-25-005; ER03-341-006; ER03-342-006; ER03-446-007; ER03-49-007; ER05-67-004; ER05-68-004; ER05-819-005; ER05-820-005; ER06-441-004; ER06-741-005; ER06-742-005; ER06-749-005; ER06-750-005; ER06-751-006; ER06-752-005; ER06-753-004; ER06-755-004; ER06-756-004; ER07-1335-005; ER09-71-001; ER99-970-009; ER09-1084-002; ER99-1983-007; ER98-1767-018.

Applicants: Calpine Energy Services, L.P., Carville Energy LLC, Columbia Energy LLC, Bethpage Energy Center 3, LLC, Santa Rosa Energy Center, LLC, Blue Spruce Energy Center, LLC, South Point Energy Center, LLC, Delta Energy Center, LLC, Calpine Construction Finance Company, LP, Calpine Newark, LLC, Calpine Philadelphia, Inc, KIAC Partners, Nissequogue Cogen Partners, Geysers Power Company, LLC, Otay Mesa Energy Center, LLC, Calpine Power America—CA, LLC, Calpine Power America—OR, LLC, CES Marketing IX, LLC, CES Marketing V, L.P., CES Marketing X, LLC, PCF2, LLC, Power Contract Financing, LLC, Mankato Energy Center, LLC, Riverside Energy Center, LLC, Auburndale Peaker Energy Center, L.L.C., TBG Cogen Partners, Zion Energy LLC, Rocky Mountain Energy Center, LLC, Rockgen Energy LLC, Pine Bluff Energy, LLC, Pastoria Energy Center, LLC, Morgan Energy Center, LLC, Mobile Energy LLC, Metcalf Energy Center, LLC, Los Medanos Energy Center LLC, Los Esteros Critical Energy Facility LLC, Hermiston Power, LLC, Goose Haven Energy Center, LLC, Gilroy Energy Center, LLC, Decatur Energy Center, LLC, Creed Energy Center, LLC, CPN Pryor Funding Corporation, CPN Bethpage 3rd Turbine Inc., Calpine Oneta Power, LP, Calpine Gilroy Cogen, L.P., Broad River Energy LLC.

Description: Notification of Change in Status pursuant to Section 35.42(d) of Auburndale Peaker Energy Center, L.L.C., et al.

Filed Date: 07/30/2009.

Accession Number: 20090730-5114.

Comment Date: 5 p.m. Eastern Time on Thursday, August 20, 2009.

Docket Numbers: ER00-1780-011; ER00-840-012; ER01-137-010; ER01-2641-015; ER01-2690-013; ER01-557-015; ER01-559-015; ER01-560-015; ER01-596-009; ER02-1942-012; ER02-2509-010; ER02-553-013; ER02-77-013; ER02-963-013; ER03-720-014; ER05-524-008; ER09-43-002; ER94-389-034; ER99-2992-011; ER99-3165-012.

Applicants: Big Sandy Peaker Plant, LLC, Tenaska Alabama II Partners, L.P., Tenaska Alabama Partners, L.P., Tenaska Georgia Partners, L.P., Tenaska Frontier Partners, Ltd., High Desert Power Project LLC, Tenaska Power Services Co., Wolf Hills Energy, LLC, Rolling Hills Generating L.L.C., Tenaska Washington Partners, L.P., Lincoln Generating Facility, LLC, Alabama Electric Marketing, LLC, California Electric Marketing, LLC, Crete Energy Venture, LLC, Kiowa Power Partners, L.L.C., Tenaska Gateway Partners, Ltd., Tenaska Virginia Partners, LP, University Park Energy, LLC, New Covert Generating Co., LLC, New Mexico Electric Marketing, LLC, Texas Electric Marketing, LLC.

Description: Notification of Change in Status pursuant to Section 35.42(d).

Filed Date: 07/30/2009.

Accession Number: 20090730-5117.

Comment Date: 5 p.m. Eastern Time on Thursday, August 20, 2009.

Docket Numbers: ER05-757-003.

Applicants: Victoria International LTD.

Description: Updated Market Power Analysis of Victoria International LTD.

Filed Date: 07/21/2009.

Accession Number: 20090721-5103.

Comment Date: 5 p.m. Eastern Time on Tuesday, August 11, 2009.

Docket Numbers: ER06-615-051; ER09-241-003; ER09-240-003; ER09-213-001.

Applicants: California Independent System Operator Corporation.

Description: ISO Quarterly Reports on Market Performance.

Filed Date: 07/30/2009.

Accession Number: 20090730-5118.

Comment Date: 5 p.m. Eastern Time on Thursday, August 20, 2009.

Docket Numbers: ER06-1014-008.

Applicants: NYISO.

Description: NYISO Sixth Price Validation Informational Report.

Filed Date: 07/31/2009.

Accession Number: 20090731-5021.

Comment Date: 5 p.m. Eastern Time on Friday, August 21, 2009.

Docket Numbers: ER08-656-005.

Applicants: Shell Energy North America (US), L.P.

Description: Notice of Change in Status of Shell Energy North America (US), L.P.

Filed Date: 07/30/2009.

Accession Number: 20090730-5120.

Comment Date: 5 p.m. Eastern Time on Thursday, August 20, 2009.

Docket Numbers: ER08-771-001.

Applicants: North Allegheny Wind, LLC.

Description: North Allegheny Wind, LLC submits revised market based rate tariff and a notice of change in status.

Filed Date: 07/30/2009.

Accession Number: 20090731-0067.

Comment Date: 5 p.m. Eastern Time on Thursday, August 20, 2009.

Docket Numbers: ER08-1317-004.

Applicants: California Independent System Operator Corporation.

Description: Q2 2009 Quarterly Report on Progress in Processing Interconnection Requests of the California Independent System Operator Corporation.

Filed Date: 07/30/2009.

Accession Number: 20090730-5115.

Comment Date: 5 p.m. Eastern Time on Thursday, August 20, 2009.

Docket Numbers: ER09-1515-000.

Applicants: Consolidated Edison Company of New York,

Description: Consolidated Edison Company of New York, Inc submits Orginal Service Agreement 1484 to FERC Open Access Transmission Tariff, Original Volume 1 under NYISO, Inc to be effective 8/1/09 under ER09-1515.

Filed Date: 07/30/2009.

Accession Number: 20090730-0138.

Comment Date: 5 p.m. Eastern Time on Thursday, August 20, 2009.

Docket Numbers: ER09-1516-000.

Applicants: WSPP Inc.

Description: WSPP Inc. submits proposed revisions to the WSPP Agreement.

Filed Date: 07/30/2009.

Accession Number: 20090730-0236.

Comment Date: 5 p.m. Eastern Time on Thursday, August 20, 2009.

Docket Numbers: ER09-1517-000.

Applicants: Midwest Independent Transmission System.

Description: Midwest Independent Transmission System Operator, Inc submits notice of termination and consent to termination of the Large Connection Agreement among Whistling Wind WI Center, LLC, American Transmission Company, and the Midwest ISO.

Filed Date: 07/30/2009.

Accession Number: 20090730-0235.

Comment Date: 5 p.m. Eastern Time on Thursday, August 20, 2009.

Docket Numbers: ER09-1518-000.

Applicants: RRI Energy Electric Solutions, LLC.

Description: RRI Energy Electric Solutions, LLC submits notice of cancellation of its FERC Electric Tariff, Second Revised Volume No. 1.

Filed Date: 07/30/2009.

Accession Number: 20090730-0237.

Comment Date: 5 p.m. Eastern Time on Thursday, August 20, 2009.

Docket Numbers: ER09-1519-000.

Applicants: Southern California Edison Company.

Description: Southern California Edison Company submits revised sheets to the Interconnection Facilities Agreement Service Agreement No. 12 between SCE and Pastoria Energy Facility, LLC.

Filed Date: 07/30/2009.

Accession Number: 20090730-0238.

Comment Date: 5 p.m. Eastern Time on Thursday, August 20, 2009.

Docket Numbers: ER09-1520-000.

Applicants: Public Service Company of New Mexico.

Description: Public Service Company of New Mexico submits amended sheets to its First Revised FERC Electric Rate Schedule 86, a transmission service agreement between PNM and the United States of America etc.

Filed Date: 07/30/2009.

Accession Number: 20090730-0247.

Comment Date: 5 p.m. Eastern Time on Thursday, August 20, 2009.

Docket Numbers: ER09-1521-000.

Applicants: Pacific Gas and Electric Company.

Description: Pacific Gas and Electric Co submits Transmission Owner Tariff 2010—Exhibits PGE-1 through PGE-18.

Filed Date: 07/30/2009.

Accession Number: 20090731-0043.

Comment Date: 5 p.m. Eastern Time on Thursday, August 20, 2009.

Docket Numbers: ER09-1523-000.

Applicants: Entergy Arkansas, Inc.

Description: Entergy Arkansas, Inc submits notice of termination of First Revised Rate Schedule No. 104 et al.

Filed Date: 07/30/2009.

Accession Number: 20090731-0065.

Comment Date: 5 p.m. Eastern Time on Thursday, August 20, 2009.

Docket Numbers: ER09-1524-000.

Applicants: Black Hills Wyoming, LLC, Cheyenne Light Fuel & Power Company.

Description: Black Hills Wyomong, LLC et al. submits a Power Purchase Agreement under which Black Hills Wyoming will sell unit-contingent electric capacity and energy to CLFP on a long-term basis.

Filed Date: 07/30/2009.

Accession Number: 20090731-0068.

Comment Date: 5 p.m. Eastern Time on Thursday, August 20, 2009.

Docket Numbers: ER09-1525-000.

Applicants: Midwest Independent Transmission System Operator, Inc.

Description: Midwest Independent Transmission System Operator, Inc submits Second Revised Sheet 1044 et al. to FERC Gas Tariff, Fourth Revised Volume 1.

Filed Date: 07/30/2009.

Accession Number: 20090731-0108.

Comment Date: 5 p.m. Eastern Time on Thursday, August 20, 2009.

Docket Numbers: ER09-1526-000.

Applicants: Midwest Independent Transmission System Operator, Inc.

Description: Midwest ISO submits revised tariff sheets revising certain provision of the Amended and Restated Midwest Contingency Reserve Sharing Group Agreement.

Filed Date: 07/30/2009.

Accession Number: 20090731-0109.

Comment Date: 5 p.m. Eastern Time on Thursday, August 20, 2009.

Docket Numbers: ER09-1527-000.

Applicants: Carolina Power & Light Company.

Description: Progress Energy Carolinas, Inc submits Original Service Agreement 309 to FERC Electric Tariff, Fourth Revised Volume 3 to be effective 8/1/09.

Filed Date: 07/31/2009.

Accession Number: 20090731-0110.

Comment Date: 5 p.m. Eastern Time on Friday, August 21, 2009.

Take notice that the Commission received the following electric securities filings:

Docket Numbers: ES09-41-000.

Applicants: PATH West Virginia Transmission Company.

Description: Application of PATH West Virginia Transmission Company, LLC for authorization under Section 204(A).

Filed Date: 07/30/2009.

Accession Number: 20090730-5103.

Comment Date: 5 p.m. Eastern Time on Thursday, August 20, 2009.

Docket Numbers: ES09-42-000.

Applicants: PATH Allegheny Transmission Company, LLC, PATH Allegheny Virginia Transmission Corporation.

Description: Application of PATH Allegheny Transmission Company, LLC and PATH Allegheny Virginia Transmission Corporation for authorization under Section 204(A).

Filed Date: 07/30/2009.

Accession Number: 20090730-5124.

Comment Date: 5 p.m. Eastern Time on Thursday, August 20, 2009.

Docket Numbers: ES09-43-000.

Applicants: NorthWestern Corporation.

Description: Application of NorthWestern Corporation for Authorization Under Section 204 of the Federal Power Act.

Filed Date: 07/31/2009.

Accession Number: 20090731-5067.

Comment Date: 5 p.m. Eastern Time on Friday, August 21, 2009.

Docket Numbers: ES09-44-000.

Applicants: NorthWestern Corporation.

Description: Application of NorthWestern Corporation for Authorization Under Section 204 of the Federal Power Act.

Filed Date: 07/31/2009.

Accession Number: 20090731-5068.

Comment Date: 5 p.m. Eastern Time on Friday, August 21, 2009.

Take notice that the Commission received the following electric reliability filings:

Docket Numbers: RR06-1-023; RR07-1-006; RR07-2-006; RR07-3-007; RR07-4-006; RR07-5-007; RR07-6-008; RR07-7-009; RR07-8-007.

Applicants: North American Electric Reliability Corp.

Description: Compliance Filing of the North American Electric Reliability Corporation in Response to June 1, 2009 Order.

Filed Date: 07/30/2009.

Accession Number: 20090730-5067.

Comment Date: 5 p.m. Eastern Time on Thursday, August 20, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-18910 Filed 8-6-09; 8:45 am]

BILLING CODE 6717-01-P